DEPARTMENT OF LABOR

Wage and Hour Division

Agency Information Collection Activities; Comment Extension, Establishing Paid Sick Leave for Federal Contractors

AGENCY: Wage and Hour Division, Department of Labor.

ACTION: Notice.

SUMMARY: This document extends the period for filing comments on the Paperwork Reduction Act and Information Collections ONLY, related to Establishing Paid Sick Leave for Federal Contractors. RIN 1235-AA13, until April 25, 2016. The Notice of Proposed Rulemaking (NPRM), and associated Information Collections were published in the Federal Register on February 25, 2016 (81 FR 9592). The affected agency OMB control numbers include: OMB Control Number 1235-0018, Records to be kept by Employers-Fair Labor Standards Act; OMB Control Number 1235-0021, Employment Information Form, and a proposed new collection identified under 1235-0NEW. The Department of Labor (Department) is taking this action in order to provide interested parties additional time to submit comments on the Paperwork Reduction Act and current Information Collections affected by this Rulemaking and the proposed new Information Collection.

DATES: The agency must receive comments on or before April 25, 2016. The period for public comments on the Paperwork Reduction Act and Information Collections, which was set to close on April 12, 2016, will be extended to April 25, 2016. Comments must be received by 11:59 p.m. on April 25, 2016. This notice does not extend the comment period on the NPRM; comments on the NPRM must still be submitted no later than April 12, 2016.

ADDRESSES: You may submit comments identified by Control Number 1235-AA13, by either one of the following methods:

Email: WHDPRAComments@dol.gov;

Mail, Hand Delivery, Courier: Robert Waterman, Compliance Specialist, Division of Regulations, Legislation, and Interpretation, Wage and Hour, U.S. Department of Labor, Room S-3502, 200 Constitution Avenue NW., Washington, DC 20210.

Comments on the Paperwork Reduction Act and Information Collections affected by this Rulemaking can also continue to be submitted through Regulations.gov, but only through April 12, 2016.

Instructions: Please submit one copy of your comments by only one method. All submissions received must include the agency name and RIN 1235-AA13 or Control Numbers identified above for this information collection. Because we continue to experience delays in receiving mail in the Washington, DC area, commenters are strongly encouraged to transmit their comments electronically via email or to submit them by mail early. Comments, including any personal information provided, become a matter of public record. They will also be summarized and/or included in the request for OMB approval of the information collection request. For additional information on submitting comments, see the “Public Participation” heading of the SUPPLEMENTARY INFORMATION section of this document.

FOR FURTHER INFORMATION CONTACT: Robert Waterman, Compliance Specialist, Division of Regulations, Legislation and Interpretation, Wage and Hour Division, U.S. Department of Labor, Room S-3510, 200 Constitution Avenue NW., Washington, DC 20210; telephone: (202) 693-0406 (this is not a toll-free number). Copies of the NPRM may be obtained in alternative formats (large print, braille, audio tape, or disc) upon request by calling (202) 693-0023. TTY/TDD callers may dial toll-free (877) 889-5627 to obtain information or request materials in alternative formats.

Questions of interpretation or enforcement of regulations issued by this agency or referenced in this document may be directed to Amy DeBisschop, Director, Government Contracts Branch at (202) 693-0064.

SUPPLEMENTARY INFORMATION:

The Department of Labor, as part of its continuing effort to reduce paperwork and respondent burden, conducts a preclearance consultation program to provide the general public and Federal agencies with an opportunity to comment on proposed and/or continuing collections of information in accordance with the Paperwork Reduction Act of 1995 (PRA95). 44 U.S.C. 3056(c)(2)(A). This program helps to ensure that requested data can be provided in the desired format, reporting burden (time and financial resources) is minimized, collection instruments are clearly understood, and the impact of collection requirements on respondents can be properly assessed.

Currently, the Wage and Hour Division is soliciting comments concerning its analysis that the Department's proposed rule, published on February 25, 2016 at 81 FR 9592, if finalized as proposed, would create a slight paperwork burden associated with ICR 1235-0021 but would not create a paperwork burden on the regulated community of the information collection provisions contained in ICR 1235-0018. Additionally, the Department seeks comments on its analysis that this NPRM, if finalized as proposed, would create a new paperwork burden on the regulated community as described in the new information collection provisions contained in ICR 1235-0NEW. While much of the information provided to OMB in support of the information collection request appears in the preamble, interested parties may obtain a copy of the full supporting statements for ICR 1235-0018, ICR 1235-0021, and ICR 1235-0NEW by sending a written request to the email address or mail address shown in the ADDRESSES section at the beginning of this notice or by calling the telephone number listed in the FOR FURTHER INFORMATION CONTACT section of this notice.

Mary Ziegler,
Assistant Administrator for Policy, Wage and Hour Division.

[FR Doc. 2016-07889 Filed 4-5-16; 8:45 am]

BILLING CODE 4510-27-P